DEPARTMENT OF THE INTERIOR

Minerals Management Service

Agency Information Collection Activities: Submitted for Office of Management and Budget (OMB) Review; Comment Request

AGENCY: Minerals Management Service (MMS), Interior.

ACTION: Notice of a revision of a currently approved information collection (OMB Control Number 1010-0120).

SUMMARY: To comply with the Paperwork Reduction Act of 1995 (PRA), we are notifying the public that we have submitted to OMB an information collection request (ICR) to renew approval of the paperwork requirements in the regulations under 30 CFR parts 206, 210, and 218. This notice also provides the public a second opportunity to comment on the paperwork burden of these regulatory requirements. The ICR is titled “30 CFR Part 206, Subpart F—Federal Coal and Subpart J—Indian Coal; Part 210, Subpart B—Oil, Gas, and OCS Sulfur—General, Subpart E—Solid Minerals, General, and Subpart H—Geothermal Resources; and Part 218, Subpart B—Oil and Gas, General, and Subpart E—Solid Minerals—General (Form MMS-4430, Solid Minerals Production and Royalty Report).” We changed the title of this ICR to clarify the regulatory language we are covering under 30 CFR parts 206, 210, and 218. The previous title was “Solid Minerals Compliance and Management Process (Form MMS-4430).”

DATES: Submit written comments on or before September 29, 2004.

ADDRESSES: Submit written comments by either FAX (202) 395-6566 or e-mail (OIRA_Docket@omb.eop.gov) directly to the Office of Information and Regulatory Affairs, OMB, Attention: Desk Officer for the Department of the Interior (OMB Control Number 1010-0120). Mail or hand-carry a copy of your comments to Sharron L. Gebhardt, Lead Regulatory Specialist, Minerals Management Service, Minerals Revenue Management, P.O. Box 25165, MS 302B2, Denver, Colorado 80225. If you use an overnight courier service, our courier address is Building 85, Room A-614, Denver Federal Center, Denver, Colorado 80225. You may also e-mail your comments to us at mrm.comments@mms.gov. Include the title of the information collection and the OMB Control Number in the “Attention” line of your comment. Also include your name and return address. Submit electronic comments as an ASCII file avoiding the use of special characters and any form of encryption. If you do not receive a confirmation that we have received your e-mail, contact Ms. Gebhardt at (303) 231-3211.

FOR FURTHER INFORMATION CONTACT: Sharron L. Gebhardt, telephone (303) 231-3211, FAX (303) 231-3781, e-mail Sharron.Gebhardt@mms.gov. You may also contact Sharron Gebhardt to obtain a copy at no cost of the form and regulations that require the subject collection of information.

SUPPLEMENTARY INFORMATION: Title: 30 CFR part 206, subpart F—Federal Coal and subpart J—Indian Coal; part 210, subpart B—Oil, Gas, and OCS Sulfur—General, subpart E—Solid Minerals, General, and subpart H—Geothermal Resources; and part 218, subpart B—Oil and Gas, General, and subpart E—Solid Minerals—General (Form MMS-4430, Solid Minerals Production and Royalty Report).

OMB Control Number: 1010-0120.

Bureau Form Number: Form MMS-4430.

Abstract: The Secretary of the U.S. Department of the Interior is responsible for matters relevant to mineral resource development on Federal and Indian lands and the Outer Continental Shelf (OCS). The Secretary under the Mineral Leasing Act (30 U.S.C. 1923) and the Outer Continental Shelf Lands Act (43 U.S.C. 1353) is responsible for managing the production of minerals from Federal and Indian lands and the OCS, collecting royalties from lessees who produce minerals, and distributing the funds collected in accordance with applicable laws.

The Secretary also has an Indian trust responsibility to manage Indian lands and seek advice and information from Indian beneficiaries. The MMS performs the royalty management functions and assists the Secretary in carrying out the Department's Indian trust responsibility.

This ICR provides for the collection of solid minerals information. The lessees, operators, or other directly involved persons described at 30 U.S.C. 1713 are required to make reports and provide reasonable information as defined by the Secretary regarding solid minerals production. Other citations supporting the reporting requirement include 30 U.S.C. 189 pertaining to Public Lands, 30 U.S.C. 359 pertaining to Acquired Lands, 25 U.S.C. 396d pertaining to Indian Lands, and 43 U.S.C. 1334 pertaining to Outer Continental Shelf Lands.

When a company or an individual enters into a lease to explore, develop, produce, and dispose of minerals from Federal or Indian lands, that company or individual agrees to report and pay the lessor royalty and any lease level obligations required in the lease terms. The lease creates a business relationship between the lessor and the lessee. The lessee is required to report various kinds of information to the lessor relative to the disposition of the leased minerals. Such information is similar to data reported to private and public mineral interest owners and is generally available within the records of the lessee or others involved in developing, transporting, processing, purchasing, or selling of such minerals. The information collected includes data necessary to ensure the royalties and lease level obligations are reported and paid appropriately.

Minerals produced from Federal and Indian leases vary greatly in the nature of occurrence, production and processing methods, and markets served. Also, lease terms, statutory requirements, and regulations vary significantly among the different solid minerals.

The MMS requires the submission of data on Form MMS-4430, Solid Minerals Production and Royalty Report, and on other associated data formats described below. The MMS uses these various types of data to fulfill our financial and compliance mission requirements. The current information collection requirements provide MMS with the ability to verify that revenue due the Government is reported and paid correctly and timely under applicable laws, regulations, and lease terms. It also provides MMS with the ability to timely disburse mineral revenues to the correct recipients. The MMS collects solid minerals production and royalty data on Form MMS-4430, along with associated sales summaries, facility data, sales contracts, payment information, and additional documents.

Specific lease language varies; however, respondents agree by the lease terms to furnish statements providing the details of all operations conducted on a lease and mine level, and the quantity and quality of all production from the lease and mine at such times and in such form as the Secretary may prescribe. Currently, rules require respondents to provide accurate, complete, and timely reports for all minerals produced, in the manner and form prescribed by MMS in 30 CFR part 206, subparts F and J; part 210, subparts B, E, and H; and part 218, subparts B and E.

The MMS is requesting OMB's approval to continue to collect this information. Not collecting this information would limit the Secretary's ability to discharge fiduciary duties and may also result in loss of royalty payments. Proprietary information submitted is protected, and there are no questions of a sensitive nature included in this information collection.

Frequency: Monthly.

Estimated Number and Description of Respondents: 114 reporters of 139 producing solid mineral mines; 68 of which are Federal coal mines and 4 of which are Indian coal mines.

Estimated Annual Reporting and Recordkeeping “Hour” Burden: 1,747 hours.

We are revising this ICR to include reporting requirements (30 CFR 206, 210.57, and 210.353 citations) that were overlooked in the original submission, and we are increasing the burden hours submitted to OMB. The number of respondents decreased because we are using the actual number of reporters versus the estimated number of responses in the original submission. In addition, there has been a significant reduction in producing mines and a consolidation of properties. MRM only requires reporters to submit information on producing mines. We base the number of respondents on the number of reporters for producing mines.

Over the past 3 years, lessees have advised MMS that it takes more time to report on Form MMS-4430 than estimated in the original submission. We base the burden hours per response in this request on the average burden hours of simple and complex reporting situations which depend upon the point of royalty determination.

We have not included in our estimates certain requirements performed in the normal course of business and considered usual and customary. For further clarification, we are including CFR citations in this ICR renewal related to the compliance process showing no associated burden hours. Some requests related to the compliance process are exempt from the PRA by determination of DOI's Office of Regulatory Affairs (ORA). The reason for exemption is because the MMS staff asks non-standard questions to resolve exceptions.

The following chart shows the breakdown of the estimated burden hours by CFR section and paragraph:

Respondent's Estimated Annual Burden Hours Chart
Citation 30 CFR | Reporting & recordkeeping requirement | Hour burden | Average number annual responses | Annual burden hours
Part 206, Subpart F—Federal Coal Valuation Standards
206.254 | Quality and quantity measurement standards for reporting and paying royalties. * * * Coal quantity information shall be reported on appropriate forms required under 30 CFR part 216 and on the Solid Minerals Production and Royalty Report, Form MMS-4430, as required under 30 CFR part 210. | 25 minutes | 816 reports | 340
206.257(b)(1) | Valuation standards for ad valorem leases. (b)(1) * * * The lessee shall have the burden of demonstrating that its contract is arm's length. * * * | Produce records: The Office of Regulatory Affairs (ORA) determined that the audit process is not covered by the Paperwork Reduction Act of 1995 (PRA) because MMS staff asks non-standard questions to resolve exceptions |  | 0
206.257(b)(3) | Valuation standards for ad valorem leases. (3) * * * When MMS determines that the value may be unreasonable, MMS will notify the lessee and give the lessee an opportunity to provide written information justifying the lessee's reported coal value. | Produce records: The ORA determined thawt the audit process is notcovered by the PRA because MMS staff asks non-standard questions to resolve exceptions |  | 0
206.257(b)(4) | Valuation standards for ad valorem leases. (4) The MMS may require a lessee to certify that its arm's-length contract provisions include all of the consideration to be paid by the buyer, either directly or indirectly, for the coal production. | Produce records: The ORA determined that the audit process is not covered by the PRA because MMS staff asks non-standard questions to resolve exceptions |  | 0
206.257(d)(2) | Valuation standards for ad valorem leases. (2) Any Federal lessee will make available upon request to the authorized MMS or State representatives, to the Inspector General of the Department of the Interior or other persons authorized to receive such information, arm's-length sales value and sales quantity data for like-quality coal sold, purchased, or otherwise obtained by the lessee from the area. | Produce records: The ORA determined that the audit process is not covered by the PRA because MMS staff asks non-standard questions to resolve exceptions |  | 0
Part 206, Subpart F—Federal Coal Washing Allowances
206.259(a)(1) | Determination of washing allowances. (a) Arm's-length contracts. (1) * * * The lessee shall have the burden of demonstrating that its contract is arm's-length. * * * | Produce records: The ORA determined that the audit process is not covered by the PRA because MMS staff asks non-standard questions to resolve exceptions |  | 0
206.259(a)(1) | Determination of washing allowances. (a) Arm's-length contracts. (1) * * * the washing allowance shall be the reasonable actual costs incurred by the lessee for washing the coal. * * * | 20 minutes | 12 lines | 4
206.259(a)(3) | Determination of washing allowances. (a) Arm's-length contracts. * * * (3) * * * When MMS determines that the value of the washing may be unreasonable, MMS will notify the lessee and give the lessee an opportunity to provide written information justifying the lessee's washing costs. | Produce records: The ORA determined that the audit process is not covered by the PRA because MMS staff asks non-standard questions to resolve exceptions |  | 0
206.259(b)(1) | Determination of washing allowances. (b) Non-arm's-length or no contract. (1) * * * the washing allowance will be based upon the lessee's reasonable actual costs. * * * | 45 minutes | 48 lines | 36
206.259(c)(1)(i) | Determination of washing allowances. (c) Reporting requirements—(1) Arm's-length contracts. (i) The lessee must notify MMS of an allowance based on incurred costs by using a separate line entry on the Form MMS-4430. | Burden hours covered under § 210.201. |  | 0
206.259(c)(1)(ii) | Determination of washing allowances. (c) Reporting requirements—(1) Arm's-length contracts. * * * (ii) The MMS may require that a lessee submit arm's-length washing contracts and related documents. * * * | Produce records: The ORA determined that the audit process is not covered by the PRA because MMS staff asks non-standard questions to resolve exceptions |  | 0
206.259(c)(2)(i) | Determination of washing allowances. (c) Reporting requirements—* * * (2) Non-arm's-length or no contract. (i) The lessee must notify MMS of an allowance based on the incurred costs by using a separate line entry on the Form MMS-4430. | Burden hours covered under § 210.201 |  | 0
206.259(c)(2)(iii) | Determination of washing allowances. (c) Reporting requirements—* * * (2) Non-arm's-length or no contract. * * * (iii) Upon request by MMS, the lessee shall submit all data used to prepare the allowance deduction. * * * | Produce records: The ORA determined that the audit process is not covered by the PRA because MMS staff asks non-standard questions to resolve exceptions |  | 0
206.259(e)(2) | Determination of washing allowances. (e) Adjustments. * * * (2) The lessee must submit a corrected Form MMS-4430 to reflect actual costs, together with any payment, in accordance with instructions provided by MMS. | Burden hours covered under § 210.201. |  | 0
Part 206, Subpart F—Federal Coal Transportation Allowances
206.262(a)(1) | Determination of transportation allowances. (a) Arm's-length contracts. (1) * * * The lessee shall have the burden of demonstrating that its contract is process is arm's-length * * *. | Produce records: The ORA determined that the audit process is not covered by the PRA because MMS staff asks non-standard questions to resolve exceptions |  | 0
206.262(a)(1) | Determination of transportation allowances. (a) Arm's-length contracts. (1) * * * the transportation allowance shall be the reasonable actual costs incurred by the lessee for transporting the coal * * *. | 20 minutes | 240 lines | 80
206.262(a)(3) | Determination of transportation allowances. (a) Arm's-length contracts.* * * (3) * * * When MMS determines that the value of the transportation may be unreasonable, MMS will notify the lessee and give the lessee an opportunity to provide written information justifying the lessee's transportation costs. | Produce Records: The ORA determined that the audit process is not covered by the PRA because MMS staff asks non-standard questions to resolve exceptions |  | 0
206.262(b)(1) | Determination of transportation allowances. (b) Non-arm's-length or no contract.—(1) * * * the transportation allowance will be based upon the lessee's reasonable actual costs. * * * | 45 minutes | 24 lines | 18
206.262(c)(1)(i) | Determination of transportation allowances. (c) Reporting requirements—(1) Arm's-length contracts. (i) The lessee must notify MMS of an allowance based on incurred costs by using a separate line entry on the Form MMS-4430. | Burden hours covered under § 210.201 |  | 0
206.262(c)(1)(ii) | Determination of transportation allowances. (c) Reporting requirements—(1) Arm's-length contracts. * * * (ii) The MMS may require that a lessee submit arm's-length transportation contracts, production agreements, operating agreements, and related documents. * * * | Produce Records The ORA determined that the audit process is not covered by the PRA because MMS staff asks non-standard questions to resolve exceptions |  | 0
206.262(c)(2)(i) | Determination of transportation allowances. (c) Reporting requirements—(2) Non-arm's-length or no contract. (i) The lessee must notify MMS of an allowance based on the incurred costs by using a separate line entry on Form MMS-4430. | Burden hours covered under § 210.201. |  | 0
206.262(c)(2)(iii) | Determination of transportation allowances. (c) Reporting requirements—(2) Non-arm's-length or no contract. * * * (iii) Upon request by MMS, the lessee shall submit all data used to prepare the allowance deduction. * * * | Produce Records The ORA determined that the audit process is not covered by the PRA because MMS staff asks non-standard questions to resolve exceptions |  | 0
206.262(e)(2) | Determination of transportation allowances. (e) Adjustments. * * * (2) The lessee must submit a corrected Form MMS-4430 to reflect actual costs, together with any payments, in accordance with instructions provided by MMS. | Burden hours covered under § 210.201. |  | 0
Part 206, Subpart J—Indian Coal Valuation Standards
206.453 | Quality and quantity measurement standards for reporting and paying royalties. * * * Coal quantity information shall be reported on appropriate forms required under 30 CFR part 216 and on the Solid Minerals Production and Royalty Report, Form MMS-4430, as required under 30 CFR part 210. | 25 minutes | 48 reports | 20
206.456(b)(1) | Valuation standards for ad valorem leases. (b)(1) * * * The lessee shall have the burden of demonstrating that its contract is arm's-length. * * * | Produce Records The ORA determined that the audit process is not covered by the PRA because MMS staff asks non-standard questions to resolve exceptions. |  | 0
206.456(b)(3) | Valuation standards for ad valorem leases. (b)(3) * * * When MMS determines that the value may be unreasonable, MMS will notify the lessee and give the lessee an opportunity to provide written information justifying the lessee's reported coal value. | Produce Records: The ORA determined that the audit process is not covered by the PRA because MMS staff asks non-standard questions to resolve exceptions |  | 0
206.456(b)(4) | Valuation standards for ad valorem leases. (b)(4) MMS may require a lessee to certify that its arm's-length contract provisions include all of the consideration to be paid by the buyer, either directly or indirectly, for the coal production. | Produce Records The ORA determined that the audit process is not covered by the PRA because MMS staff asks non-standard questions to resolve exceptions |  | 0
206.456 (d)(2) | Valuation standards for ad valorem leases. (d)(2) An Indian lessee will make available upon request to the authorized MMS or Indian representatives, or to the Inspector General of the Department of the Interior or other persons authorized to receive such information, arm's-length sales and sales quantity data for like-quality coal sold, purchased, or otherwise obtained by the lessee from the area. | Produce records: The ORA determined that the audit process is not covered by the PRA because MMS staff asks non-standard questions to resolve exceptions |  | 0
Part 206, Subpart J—Indian Coal Washing Allowances
206.458(a)(1) | Determination of washing allowances. (a) Arm's-length contracts. (1) * * * the washing allowance shall be the reasonable actual costs incurred by the lessee for washing the coal * * *. However, before any deduction may be taken, the lessee must submit a completed page one of Form MMS-4292, Coal Washing Allowance Report, in accordance with paragraph (c)(1) of this section. A washing allowance may be claimed retroactively for a period of not more than 3 months prior to the first day of the month that Form MMS-4292 is filed with MMS, unless MMS approves a longer period upon a showing of good cause by the lessee. | Burden covered by OMB Control Number 1010-0074 |  | 0
206.458(a)(3) | Determination of washing allowances. (a) Arm's-length contracts. * * * (3) * * * When MMS determines that the value of the washing may be unreasonable, MMS will notify the lessee and give the lessee an opportunity to provide written information justifying the lessee's washing costs. | Produce records: The ORA determined that the audit process is not covered by the PRA because MMS staff asks non-standard questions to resolve exceptions |  | 0
206.458(b)(1) | Determination of washing allowances. (b) Non-arm's-length or no contract. (1) * * * the washing allowance will be based upon the lessee's reasonable actual costs. * * * However, before any estimated or actual deduction may be taken, the lessee must submit a completed Form MMS-4292 in accordance with paragraph (c)(2) of this section. A washing allowance may be claimed retroactively for a period of not more than 3 months prior to the first day of the month that Form MMS-4292 is filed with MMS, unless MMS approves a longer period upon a showing of good cause by the lessee. * * * | Burden covered by OMB Control Number 1010-0074 |  | 0
206.458(c)(1)(i) | Determination of washing allowances. (c) Reporting requirements. (1) Arm's-length contracts. (i) With the exception of those washing allowances specified in paragraphs (c)(1)(v) and (c)(1)(vi) of this section, the lessee shall submit page one of the initial Form MMS-4292 prior to, or at the same time, as the washing allowance determined pursuant to an arm's-length contract is reported on Form MMS-4430, Solid Minerals Production and Royalty Report. * * * | Burden covered by OMB Control Number 1010-0074 |  | 0
206.458(c)(1)(iii) | Determination of washing allowances. (c) Reporting requirements. (1) Arm's-length contracts. * * * (iii) After the initial reporting period and for succeeding reporting periods, lessees must submit page one of Form MMS-4292 within 3 months after the end of the calendar year, or after the applicable contract or rate terminates or is modified or amended, whichever is earlier, unless MMS approves a longer period (during which period the lessee shall continue to use the allowance from the previous reporting period). | Burden covered by OMB0 Control Number 1010-0074. |  | 0
206.458(c)(1)(iv) | Determination of washing allowances. (c) Reporting requirements. (1) Arm's-length contracts. * * * (iv) MMS may require that a lessee submit arm's-length washing contracts and related documents. * * * | Produce records: The ORA determined that the audit process is not covered by the PRA because MMS staff asks non-standard questions to resolve exceptions |  | 0
206.458(c)(2)(i) | Determination of washing allowances. (c) Reporting requirements. * * * (2)Non-arm's-length or no contract. (i) With the exception of those washing allowances specified in paragraphs (c)(2)(v) and (c)(2)(vii) of this section, the lessee shall submit an initial Form MMS-4292 prior to, or at the same time as, the washing allowance determined pursuant to a non-arm's-length contract or no contract situation is reported on Form MMS-4430, Solid Minerals Production and Royalty Report * * *. | Burden covered by OMB Control Number 1010-0074 |  | 0
206.458(c)(2)(iii) | Determination of washing allowances. (c) Reporting requirements. * * * (2) Non-arm's-length or no contract. * * * (iii) For calendar-year reporting periods succeeding the initial reporting period, the lessee shall submit a completed Form MMS-4292 containing the actual costs for the previous reporting period. If coal washing is continuing, the lessee shall include on Form MMS-4292 its estimated costs for the next calendar year. * * * Form MMS-4292 must be received by MMS within 3 months after the end of the previous reporting period, unless MMS approves a longer period (during which period the lessee shall continue to use the allowance from the previous reporting period). | Burden covered by OMB Control Number 1010-0074 |  | 0
206.458(c)(2)(vi) | Determination of washing allowances. (c) Reporting requirements. * * * (2) Non-arm's-length or no contract. * * * (vi) Upon request by MMS, the lessee shall submit all data used by the lessee to prepare its Forms MMS-4292 * * *. | Produce records: The ORA determined that the audit process is not covered by the PRA because MMS staff asks non-standard questions to resolve exceptions |  | 0
206.458(c)(4) | Determination of washing allowances. (c) Reporting requirements. * * * (4) Washing allowances must be reported as a separate line on the Form MMS-4430, unless MMS approves a different reporting procedure. | Burden hours covered under § 210.201 |  | 0
206.458(e)(2) | Determination of washing allowances. (e) Adjustments. * * * (2) The lessee must submit a corrected Form MMS-4430 to reflect actual costs, together with any payment, in accordance with instructions provided by MMS. | Burden hours covered under § 210.201 |  | 0
Part 206, Subpart J—Indian Coal Transportation Allowances
206.461(a)(1) | Determination of transportation allowances. (a) Arm's-length contracts. (1) * * * the transportation allowance shall be the reasonable, actual costs incurred by the lessee for transporting the coal * * *. However, before any deduction may be taken, the lessee must submit a completed page one of Form MMS-4293, Coal Transportation Allowance Report, in accordance with paragraph (c)(1) of this section. A transportation allowance may be claimed retroactively for a period of not more than 3 months prior to the first day of the month that Form MMS-4293 is filed with MMS, unless MMS approves a longer period upon a showing of good cause by the lessee. | Burden covered by OMB Control Number 1010-0074 |  | 0
206.461(a)(3) | Determination of transportation allowances. (a) Arm's-length contracts.* * * (3) * * * When MMS determines that the value of the transportation may be unreasonable, MMS will notify the lessee and give the lessee an opportunity to provide written information justifying the lessee's transportation costs. | Produce records: The ORA determined that the audit process is not covered by the PRA because MMS staff asks non-standard questions to resolve exceptions |  | 0
206.461(b)(1) | Determination of transportation allowances. (b) Non-arm's-length or no contract. (1) * * * the transportation allowance will be based upon the lessee's reasonable actual costs * * *. However, before any estimated or actual deduction may be taken, the lessee must submit a completed Form MMS-4293 in accordance with paragraph (c)(2) of this section. A transportation allowance may be claimed retroactively for a period of not more than 3 months prior to the first day of the month that Form MMS-4293 is filed with MMS, unless MMS approves a longer period upon a showing of good cause by the lessee * * *. | Burden covered by OMB Control Number 1010-0074 |  | 0
206.461(c)(1)(i) | Determination of transportation allowances. (c) Reporting requirements. (1) Arm's-length contracts. (i) With the exception of those transportation allowances specified in paragraphs (c)(1)(v) and (c)(1)(vi) of this section, the lessee shall submit page one of the initial Form MMS-4293 prior to, or at the same time as, the transportation allowance determined pursuant to an arm's-length contract is reported on Form MMS-4430, Solid Minerals Production and Royalty Report. | Burden covered by OMB Control Number 1010-0074 |  | 0
206.461(c)(1)(iii) | Determination of transportation allowances. (c) Reporting requirements. (1) Arm's-length contracts.* * * (iii) After the initial reporting period and for succeeding reporting periods, lessees must submit page one of Form MMS-4293 within 3 months after the end of the calendar year, or after the applicable contract or rate terminates or is modified or amended, whichever is earlier, unless MMS approves a longer period (during which period the lessee shall continue to use the allowance from the previous reporting period). Lessees may request special reporting procedures in unique allowance reporting situations, such as those related to spot sales. | Burden covered by OMB Control Number 1010-0074 |  | 0
206.461(c)(1)(iv) | Determination of transportation allowances. (c) Reporting requirements. (1) Arm's-length contracts.* * * (iv) MMS may require that a lessee submit arm's-length transportation contracts, production agreements, operating agreements, and related documents.* * * | Produce records: The ORA determined that the audit process is not covered by the PRA because MMS staff asks non-standard questions to resolve exceptions |  | 0
206.461(c)(2)(i) | Determination of transportation allowances. (c) Reporting requirements. * * * (2) Non-arm's-length or no contract. (i) With the exception of those transportation allowances specified in paragraphs (c)(2)(v) and (c)(2)(vii) of this section, the lessee shall submit an initial Form MMS-4293 prior to, or at the same time as, the transportation allowance determined pursuant to a non-arm's-length contract or no contract situation is reported on Form MMS-4430, Solid Minerals Production and Royalty Report * * *. | Burden covered by OMB Control Number 1010-0074 |  | 0
206.461(c)(2)(iii) | Determination of transportation allowances. (c) Reporting requirements. * * * (2) Non-arm's-length or no contract.* * * (iii) For calendar-year reporting periods succeeding the initial reporting period, the lessee shall submit a completed Form MMS-4293 containing the actual costs for the previous reporting period. * * * Form MMS-4293 must be received by MMS within 3 months after the end of the previous reporting period, unless MMS approves a longer period (during which period the lessee shall continue to use the allowance from the previous reporting period) | Burden covered by OMB0 Control Number 1010-0074 |  | 0
206.461(c)(2)(vi) | Determination of transportation allowances. (c) Reporting requirements. * * * (2) Non-arm's-length or no contract. * * * (vi) Upon request by MMS, the lessee shall submit all data used to prepare its Form MMS-4293 * * * | Produce records: (1) The ORA determined that the audit process is not covered by the PRA because MMS staff asks non-standard questions to resolve exceptions |  | 0
206.461(c)(4) | Determination of transportation allowances. (c) Reporting requirements. * * * (4) Transportation allowances must be reported as a separate line item on Form MMS-4430, unless MMS approves a different reporting procedure | Burden hours covered under § 210.201 |  | 0
206.461(e)(2) | Determination of transportation allowances. (e) Adjustments. * * * (2) The lessee must submit a corrected Form MMS-4430 to reflect actual costs, together with any payment, in accordance with instructions provided by MMS | Burden hours covered under § 210.201 |  | 0
Part 210, Subpart B—Oil, Gas, and OCS Sulfur—General
210.52(a) | Report of sales and royalty remittance. (a) You must submit a completed Form MMS-2014 (Report of Sales and Royalty Remittance) to MMS with: * * * | Burden covered by OMB Control Number 1010-0140 |  | 0
Part 210, Subpart E—Solid Minerals, General
210.201 | How do I submit Form MMS-4430, Solid Minerals Production and Royalty Report? (a) What to submit. (1) You must submit a completed Form MMS-4430 for— * * *. (Burden hours for citations, 206.259(c)(1)(i), 206.259(c)(2)(i), 206.259(e)(2), 206.262(c)(1)(i), 206.262(c)(2)(i), 206.262(e)(2), 206.458(c)(4), 206.458(e)(2), 206.461(c)(4), and 206.461(e)(2), are included in this citation's burden hours due to the submission process.) | 30 minutes | 1,668 reports | 834
210.202 | How do I submit sales summaries? (a) What to submit. (1) You must submit sales summaries for all coal and other solid minerals produced from Federal and Indian leases and for any remote storage site from which you sell Federal or Indian solid minerals * * *. | 15 minutes | 1,140 sales summaries | 285
210.203 | How do I submit sales contracts? (a) What to submit. You must submit sales contracts, agreements, and contract amendments for the sale of all coal and other solid minerals produced from Federal and Indian leases with ad valorem royalty terms * * *. | 1 hour | 30 sales contracts | 30
210.204 | How do I submit facility data? (a) What to submit. (1) You must submit facility data if you operate a wash plant, refining, ore concentration, or other processing facility for any coal, sodium, potassium, metals, or other solid minerals produced from Federal or Indian leases with ad valorem royalty terms * * *. | 15 minutes | 360 facility data submissions | 90
210.205 | Will I need to submit additional documents or evidence to MMS? (a) Federal and Indian lease terms allow us to request detailed statements, documents, or other evidence necessary to verify compliance * * *. (b) We will request this additional information as we need it * * * | Produce records: The ORA determined that the audit process is not covered by the PRA because MMS staff asks non-standard questions to resolve exceptions |  | 0
Part 210, Subpart H—Geothermal Resources
210.351 | Required recordkeeping. * * * [Geothermal] Records may be maintained on microfilm, microfiche, or other recorded media that are easily reproducible and readable. * * * | Maintain records: Burden covered under OMB 1010-0140 |  | 0
210.352 | Payor information forms. [geothermal] The Payor Information Form (Form MMS-4025) must be filed for each Federal lease on which geothermal royalties (including byproduct royalties) are paid. * * * | This form is no longer used by MMS |  | 0
210.353 | Special forms and reports. [geothermal] The MMS may require submission of additional information on special forms or reports. * * * | 1 hour | 1 submission | 1
210.354 | Monthly report of sales and royalty. A completed Report of Sales and Royalty Remittance (Form MMS-2014) must be submitted each month once sales or utilization of [geothermal] production occur, * * *. | Burden covered by OMB Control Number 1010-0140 |  | 0
Part 218, Subpart B—Oil and Gas, General
218.52(a) and (c) | How does a lessee designate a Designee? (a) If you are a lessee under 30 U.S.C. 1701(7), and you want to designate a person to make all or part of the payments due under a lease on your behalf under 30 U.S.C. 1712(a), you must notify MMS or the applicable delegated State in writing of such designation * * *. (c) If you want to terminate a designation you made under paragraph (a) of this section, you must provide to MMS in writing before the termination * * *. | Burden covered by OMB Control Number 1010-0107 |  | 0
218.57(a)(2) | Providing information and claiming rewards. (a) General. * * * (2) If a person has any information he or she believes would be valuable to MMS, that person (“informant”) should submit the information in writing, in the form of a letter * * *. | 30 minutes | 1 submission | 0.5
218.57(b)(3)(i) | Providing information and claiming rewards. (b) Claim for reward. * * * (3) To file a claim for reward the informant must: (i) Notify the Director, MMS * * * that he/she is claiming a reward. | 30 minutes | 1 submission | 0.5
Part 218, Subpart E—Solid Minerals—General
218.201(b) | Method of payment. You must tender all payments * * *, except as follows: * * * (b) For Form MMS-4430 payments, include both your customer identification and your customer document identification numbers on your payment document * * *. | 20 seconds | 1,368 payments | 8
Total burden |  |  | 5,757 | 1,747

Estimated Annual Reporting and Recordkeeping “Non-hour” Cost Burden: We have identified no “non-hour” cost burdens.

Public Disclosure Statement: The PRA (44 U.S.C. 3501, et seq.) provides that an agency may not conduct or sponsor, and a person is not required to respond to a collection of information unless it displays a currently valid OMB Control Number.

Comments: Section 3506(c)(2)(A) of the PRA requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, we published a notice in the Federal Register on March 8, 2004 (69 FR 10746), announcing that we would submit this ICR to OMB for approval. The notice provided the required 60-day comment period. We received no written comments in response to the notice. However, in addition to the notice, we interviewed 9 companies and received 2 comments. These can be viewed at our Web site http://www.mrm.mms.gov/Laws_R_D/InfoColl/InfoColCom.htm.

If you wish to comment in response to this notice, you may send your comments to the offices listed under the ADDRESSES section of this notice. OMB has up to 60 days to approve or disapprove the information collection but may respond after 30 days. Therefore, to ensure maximum consideration, OMB should receive public comments by September 29, 2004.

Public Comment Policy: We will post all comments in response to this notice on our Web site at http://www.mrm.mms.gov/Laws_R_D/InfoColl/InfoColCom.htm. We will also make copies of the comments available for public review, including names and addresses of respondents, during regular business hours at our offices in Lakewood, Colorado. Upon request, we will withhold an individual respondent's home address from the public record, as allowable by law. There also may be circumstances in which we would withhold from the rulemaking record a respondent's identity, as allowable by law. If you request that we withhold your name and/or address, state your request prominently at the beginning of your comment. However, we will not consider anonymous comments. We will make all submissions from organizations or businesses, and from individuals identifying themselves as representatives or officials of organizations or businesses, available for public inspection in their entirety.

MMS Information Collection Clearance Officer: Arlene Bajusz (202) 208-7744.

Dated: July 30, 2004.
Lucy Querques Denett,
Associate Director for Minerals Revenue Management.

[FR Doc. 04-19652 Filed 8-27-04; 8:45 am]

BILLING CODE 4310-MR-P